DEPARTMENT OF HEALTH AND HUMAN SERVICES

Administration for Children and Families

Notice of Meeting

AGENCY: Administration for Children and Families (ACF), Department of Health and Human Services.

ACTION: Announcement of meeting and call for public comments on recommendations to improve the Nation's response to the sex trafficking of children and youth.

SUMMARY: Notice is hereby given, pursuant to the provisions of the Federal Advisory Committee Act (FACA) and the Preventing Sex Trafficking and Strengthening Families Act, that a meeting of the National Advisory Committee on the Sex Trafficking of Children and Youth in the United States (Committee) will be held on October 4, 2019. The purpose of the meeting is for the Committee to discuss its work on its interim report on recommended best practices for states to follow to combat the sex trafficking of children and youth based on multidisciplinary research and promising, evidence-based models, and programs.

The members of the Committee request any examples and comments from the public to inform their work and have also requested input on the following specific topics pertaining to combating the sex trafficking of children and youth in the United States:

• Screening and Identification: Intersections with interpersonal violence; screening or universal approaches.

• Service Provision: Models for multi-agency response protocols; evaluated training curricula for service providers; case management and specialized service models.

• Housing: Prevention efforts of public housing authorities.

• Prevention: Initiatives of city, county, and state public health departments.

• Data: Strategies for state Medicaid offices to collect quality measures regarding violence or exploitation; collection and protection of exploitation data in health records.

• Child Welfare: Evidence-informed or -based curricula for child welfare providers, child and youth service providers, and foster parents; child welfare policies and procedures for identifying and responding to trafficking; interagency data sharing agreements that pertain to child sex trafficking cases; specialized foster care models including residential treatment; screening tools used in child welfare agencies and whether or not they've been validated.

• State funding sources for prevention, training, and/or services in addition to federal non-IV-E funding.

Please submit your examples and/or comments to adonald@nhttac.org with the subject “NAC Comments” as soon as possible and before August 30.

DATES: The meeting will be held on October 4, 2019. The members will convene on October 3 to conduct subcommittee meetings and a fact finding site visit.

ADDRESSES: The meeting will be held in Alexandria, Virginia, at the invitation of the National Center for Missing and Exploited Children. Space is limited. Identification will be required at the entrance of the facility (e.g., passport, state ID, or federal ID).

To attend the meeting virtually, please register for this event online: https://www.acf.hhs.gov/otip/resource/nacagenda1019.

FOR FURTHER INFORMATION CONTACT: Katherine Chon (Designated Federal Officer) at EndTrafficking@acf.hhs.gov or (202) 205-4554 or 330 C Street SW, Washington, DC 20201. Additional information is available at https://www.acf.hhs.gov/otip/partnerships/the-national-advisory-committee.

SUPPLEMENTARY INFORMATION: The formation and operation of the Committee are governed by the provisions of Public Law 92-463, as amended (5 U.S.C. App. 2), which sets forth standards for the formation and use of federal advisory committees.

Purpose of the Committee: The purpose of the Committee is to advise the Secretary and the Attorney General on practical and general policies concerning improvements to the nation's response to the sex trafficking of children and youth in the United States. HHS established the Committee pursuant to Section 121 of the Preventing Sex Trafficking and Strengthening Families Act of 2014 (Pub. L. 113-183).

Tentative Agenda: The agenda can be found at https://www.acf.hhs.gov/otip/partnerships/the-national-advisory-committee. To submit written statements or RSVP to attend in-person or make verbal statements, email adonald@nhttac.org by September 16, 2019. Please include your name, organization, and phone number. More details on these options are below.

Public Accessibility to the Meeting: Pursuant to 5 U.S.C. 552b and 41 CFR 102-3.140 through 102-3.165, and subject to the availability of space, this meeting is open to the public. Seating is on a first to arrive basis. Security screening and a photo ID are required. Space and parking is limited. The building is fully accessible to individuals with disabilities.

Written Statements: Pursuant to 41 CFR 102-3.105(j) and 102-3.140 and section 10(a)(3) of the Federal Advisory Committee Act, the public may submit written statements in response to the stated agenda of the meeting or to the committee's mission in general. Organizations with recommendations on best practices are encouraged to submit their comments or resources (hyperlinks preferred). Written comments or statements received after September 16, 2019, may not be provided to the Committee until its next meeting.

Verbal Statements: Pursuant to 41 CFR 102-3.140d, the Committee is not obligated to allow a member of the public to speak or otherwise address the Committee during the meeting. Members of the public are invited to provide verbal statements during the Committee meeting only at the time and manner described in the agenda. The request to speak should include a brief statement of the subject matter to be addressed and should be relevant to the stated agenda of the meeting or the Committee's mission in general.

Minutes: The minutes of this meeting will be available for public review and copying within 90 days at: https://www.acf.hhs.gov/otip/partnerships/the-national-advisory-committee.

Dated: August 12, 2019.
Lynn A. Johnson,
Assistant Secretary for Children and Families.

[FR Doc. 2019-17753 Filed 8-16-19; 8:45 am]

BILLING CODE 4184-40-P